DEPARTMENT OF AGRICULTURE

Commodity Credit Corporation

Domestic Sugar Program—2011-Crop Cane Sugar and Beet Sugar Marketing Allotments and Company Allocations

AGENCY: Commodity Credit Corporation, USDA.

ACTION: Notice.

SUMMARY: The Commodity Credit Corporation (CCC) is issuing this notice to publish the fiscal year (FY) 2012 State sugar marketing allotments and company allocations to sugarcane and sugar beet processors, which apply to all domestic sugar marketed for human consumption in the United States from October 1, 2011, through September 30, 2012. Although CCC already has announced most of the information in this notice through a United States Department of Agriculture (USDA) news release, CCC is required to publish the determinations establishing, adjusting, or suspending sugar marketing allotments in the Federal Register.

FOR FURTHER INFORMATION CONTACT: Barbara Fecso, Dairy and Sweeteners Analysis Group, Economic and Policy Analysis Staff, Farm Service Agency, USDA, 1400 Independence Ave, SW., Mail Stop 0516, Washington, DC 20250-0516; telephone (202) 720-4146; FAX (202) 690-1480; e-mail: barbara.fecso@wdc.usda.gov.

SUPPLEMENTARY INFORMATION: On August 18, 2011, CCC announced the initial FY 2012 overall sugar marketing allotment quantity (OAQ) of 9,456,250 short tons, raw value (STRV). The OAQ is equal to 85 percent of the sugar for human consumption estimate for the crop year of 11,125,000 STRV as forecast in the July 2011 World Agricultural Supply and Demand Estimates (WASDE) report. The Agricultural Adjustment Act of 1938, as amended, requires that the OAQ be set at not less than 85 percent of the estimated quantity of sugar for domestic human consumption for the crop year, and that a fixed portion of the OAQ be assigned to the beet sector and the cane sector. CCC distributed the FY 2012 beet sugar allotment of 5,139,472 STRV (54.35 percent of the OAQ) among the sugar beet processors and the cane sugar allotment of 4,316,778 STRV (45.65 percent of the OAQ) among the sugarcane processors.

CCC determined that it was not necessary to establish farm level proportionate shares in Louisiana, the only State eligible for proportionate shares, in FY 2012. The cane sugar sector was not expected to fill its allotment and therefore, there was no need to limit sugarcane acreage in that State through proportionate shares. Additionally, CCC determined that the Feedstock Flexibility Program (FFP) will not be implemented in FY 2012 based on the forecast of limited sugar supplies and prices significantly above the support level. The probability of forfeitures of sugar loan collateral under CCC price support loans in FY 2012, which triggers FFP, was determined to be very low.

The initial FY 2012 sugar marketing State allotments and processor allocations are listed in the following table:

FY 2012 Overall Beet and Cane Allotments and Allocations
Distribution | Initial FY 2012 allocations STRV
Beet Sugar | 5,139,472
Cane Sugar | 4,316,778
Total OAQ | 9,456,250
Beet Processors' Marketing Allocations:
Amalgamated Sugar Co. | 1,100,400
American Crystal Sugar Co. | 1,889,666
Michigan Sugar Co. | 530,782
Minn-Dak Farmers Co-op | 356,931
So. Minn Beet Sugar Co-op. | 693,665
Western Sugar Co. | 524,994
Wyoming Sugar Growers, LLC | 43,034
Total Beet Sugar | 5,139,472
State Cane Sugar Allotments:
Florida | 2,148,906
Louisiana | 1,662,420
Texas | 186,808
Hawaii | 318,664
Total Cane Sugar | 4,316,778
Cane Processors' Marketing Allocations:
Florida:
Florida Crystals | 884,761
Growers Co-op of Florida | 386,557
U.S. Sugar Corp | 877,588
Total Florida | 2,148,906
Louisiana:
Louisiana Sugar Cane Products, Inc. | 1,154,105
M.A. Patout & Sons | 508,315
Total Louisiana | 1,662,420
Texas:
Rio Grande Valley | 186,808
Hawaii:
Gay &Robinson, Inc. | 73,145
Hawaiian Commercial & Sugar Company | 245,499
Total Hawaii | 318,644
* The sums of individual entries may not match totals due to rounding.

Signed on September 30, 2011.
Bruce Nelson,
Executive Vice President, Commodity Credit Corporation.

[FR Doc. 2011-25945 Filed 10-6-11; 8:45 am]

BILLING CODE 3410-05-P